DEPARTMENT OF THE INTERIOR

Bureau of Land Management

[BLM_NM_FRN_MO4500183052]

Notice of Availability for the Organ Mountains-Desert Peaks National Monument Proposed Resource Management Plan and Final Environmental Impact Statement, New Mexico

AGENCY: Bureau of Land Management, Interior.

ACTION: Notice of availability.

SUMMARY: In compliance with the National Environmental Policy Act of 1969 (NEPA), as amended, and the Federal Land Policy and Management Act of 1976, as amended, the Bureau of Land Management (BLM) has prepared a Proposed Resource Management Plan (RMP) and Final Environmental Impact Statement (EIS) for the Organ Mountains-Desert Peaks National Monument (Monument) and by this notice is announcing the start of the 30-day protest period for the Proposed RMP.

DATES: This notice announces a 30-day protest period to the BLM on the Proposed RMP beginning on the date the Environmental Protection Agency (EPA) publishes its Notice of Availability (NOA) of the Proposed RMP and Final EIS in the Federal Register. The EPA usually publishes its NOAs on Fridays. Protests must be postmarked or electronically submitted on the BLM's ePlanning website during the 30-day protest period.

ADDRESSES: The Proposed RMP, Final EIS, and associated documents are available on the BLM ePlanning project website at: https://eplanning.blm.gov/eplanning-ui/project/92170/510. Documents pertinent to this proposal may also be examined at the BLM Las Cruces District Office, 1800 Marquess Street, Las Cruces, New Mexico 88005.

Instructions for filing a protest with the BLM for the Proposed RMP and Final EIS for the Monument can be found at: https://www.blm.gov/programs/planning-and-nepa/public-participation/filing-a-plan-protest and at 43 CFR 1610.5-2.

FOR FURTHER INFORMATION CONTACT: BLM RMP Project Manager Patrick Rich at 405-579-7154 or prich@blm.gov or acting Monument Manager Lane Hauser at 575-525-4358 or lhauser@blm.gov. Individuals in the United States who are deaf, deaf-blind, hard of hearing, or have a speech disability may dial 711 (TTY, TDD, or TeleBraille) to access telecommunications relay services for contacting Patrick Rich. Individuals outside the United States should use the relay services offered within their country to make international calls to the point-of-contact in the United States.

SUPPLEMENTARY INFORMATION: The decision area is located in Doña Ana County, New Mexico, and encompasses approximately 496,591 acres of BLM-managed public lands. Resources on Monument lands administered by the BLM within the decision area are currently managed under the 1993 Mimbres RMP, as amended, and additional guidance directed in Presidential Proclamation 9131.

The BLM identified, analyzed, and considered mitigation to address reasonably foreseeable impacts associated with land use allocations and resource management goals and objectives employed to develop the alternatives, in accordance with 40 CFR 1502.14(e).

The BLM proactively coordinated the NEPA and land use planning processes early in the planning effort to ensure compliance with applicable procedural requirements under the Endangered Species Act (16 U.S.C. 1536) and section 106 of the National Historic Preservation Act (54 U.S.C. 306108), as provided in 36 CFR 800.2(d)(3), including public involvement requirements of section 106.

On December 1, 2021, the BLM initiated government-to-government consultation with 13 federally recognized Tribes with historic or cultural resources within the area potentially affected by the Proposed RMP. In accordance with Executive Order 13175, BLM Manual section 1780, and other Departmental policies, the BLM considered Tribal concerns, including potential impacts to Indian trust assets and cultural resources, throughout the land use planning process.

The BLM invited Tribal Nations; Federal, State, and local agencies; and stakeholders that demonstrated interest in or that could have been impacted by the RMP, to participate in the planning process and, if eligible, to participate as cooperating agencies. Ten eligible entities accepted the BLM's invitation to join the RMP planning effort as cooperating agencies.

On June 22, 2023, the BLM published a Notice of Intent in the Federal Register (88 FR 40846), notifying the public of a formal scoping period and soliciting public participation. The BLM held six public scoping meetings in and around Las Cruces, New Mexico, during July 2023.

On April 5, 2024, the BLM published an NOA in the Federal Register (89 FR 24030), announcing a 90-day public comment period (April 5, 2024, through July 5, 2024) and the availability of the Draft EIS and Draft RMP for review and comment. The BLM held two in-person public meetings and two virtual public meetings in Las Cruces, New Mexico, during June 2024.

Proposed RMP

The Final EIS documents analysis of environmental impacts associated with the five alternatives considered for management of Monument lands, to include the 10 congressionally designated wilderness areas located within the Monument's boundaries. The Proposed RMP provides five land use management alternatives. Each alternative consists of distinct land use allocations and resource management goals, objectives, and management direction focused on protecting Monument objects of scientific and historic interest, preserving wilderness character, and the conservation of natural resources, resource values, and wildlife habitat. The Proposed RMP (Alternative E) was developed in response to public comments received on the Draft EIS and RMP during the 90-day public comment period and is based, primarily, on land use allocations and resource management goals and objectives found in Alternative C (Draft EIS Preferred Alternative).

The five alternatives analyzed in the Final EIS are as follows:

• Alternative A (No Action): Maintains the 1993 Mimbres RMP management direction. Incorporates Monument management direction from Presidential Proclamation 9131.

• Alternative B (Protection-focused): Protects objects of scientific and historic interest. Protects, preserves, and enhances habitat, natural resources, and resource values while providing limited recreation and travel opportunities. Most proactive in promoting land use management activities focused on preservation, restoration, and enhancement.

• Alternative C (Draft Preferred): Protects Monument objects of scientific and historic interest. Institutes preservation management principles for designated wilderness. Provides an objective approach to land use management, employing conservation management principles for wildlife habitat, natural resources, and resource values. Employs targeted preservation goals and objectives, while allowing recreation uses that promote sustained socioeconomic progression.

• Alternative D (Recreation-focused): Emphasizes opportunities for resource uses, such as recreation, off-highway vehicle and mechanized use, and livestock grazing, while maintaining ecological function to protect Monument resources, objects, and values. Institutes preservation management principles for designated wilderness.

• Alternative E (Proposed): Institutes similar land use allocations and resource management goals and objectives as Alternative C. Provides additional flexibility in the management of natural resources, while protecting Monument objects and preserving wilderness character. Emphasizes the importance of future implementation and activity-level planning efforts, such as integrated travel/transportation and recreation area management planning, wilderness management plans, rangeland management plans, habitat management plans, and cultural resource and Monument object inventory and management.

The BLM New Mexico State Director has selected Alternative E as the “Proposed RMP alternative.” Alternative E was designed to protect Monument objects, preserve wilderness character, and conserve natural and cultural resources, resource values, and wildlife habitat, while allowing for compatible uses on Monument lands. The Proposed RMP alternative includes important conservation and preservation measures designed to protect Monument objects of scientific and historic interest, as well as other resources and resource values, including:

• Wilderness areas (239,596-acres): Emphasizes preservation of wilderness character, with allowance for compatible uses;

• Areas of Critical Environmental Concern (ACEC): Designates the Doña Ana Mountains ACEC (1,427 acres) and the Organ/Franklin Mountains ACEC (36,658 acres);

• Special Recreation Management Area (SRMA): Designates the Doña Ana Mountains SRMA (5,858 acres) and the Organ Mountains SRMA (36,658 acres);

• Soils: provides for protection and active management of soils, while limiting soil disturbing activities;

• Vegetative communities: provides for the conservation and restoration of reference vegetative communities;

• Wildlife: preserves and restores native habitat, while enhancing wildlife corridors and connectivity;

• Visual resources: preserves high value visual resources through protective management goals and objectives;

• Livestock grazing: establishes goals and objectives developed to ensure appropriate protection of Monument objects, preservation of wilderness character, and conservation of natural resources and resource values;

• Travel management (Monument): establishes use allocations and management goals and objectives limiting motorized vehicle use to designated roads and non-motorized mechanized vehicle use to designated roads and trails on the Monument, as directed in Presidential Proclamation 9131;

• Travel management (wilderness): establishes preservation goals and objectives, in accordance with the Wilderness Act, that prohibit motorized vehicle use or non-motorized mechanized vehicle use in designated wilderness areas; and

• Lands and realty: provides protection of Monument objects, preservation of wilderness character, and conservation of natural resources, resource values, and wildlife habitat through establishment of right-of-way exclusion and avoidance areas across the Monument.

Protest of the Proposed RMP

The BLM's planning regulations state that any person who participated in the preparation of the RMP and has an interest that will or might be adversely affected by approval of the Proposed RMP may protest its approval to the BLM Director. Protest of the Proposed RMP constitutes the final opportunity for administrative review of the proposed land use planning decisions prior to the BLM adopting an Approved RMP.

All protests must be in writing and mailed to the appropriate address, as set forth in the ADDRESSES section earlier or submitted electronically through the BLM ePlanning project website, as previously described. Protests submitted electronically by any means other than the ePlanning project website will be invalid unless a protest is also submitted as a hard copy. The BLM Director will render a written decision on each protest. The Director's decision shall be the final decision of the Department of the Interior. Responses to valid protest issues will be compiled and documented in a Protest Resolution Report that will be made available following the protest resolution online at: https://www.blm.gov/programs/planning-and-nepa/public-participation/protest-resolution-reports. Upon resolution of protests, the BLM will issue a Record of Decision and Approved RMP.

Before including your phone number, email address, or other personal identifying information in your protest, you should be aware that your entire protest—including your personal identifying information—may be made publicly available at any time. While you can ask the BLM in your protest to withhold your personal identifying information from public review, we cannot guarantee that we will be able to do so.

(Authority: 40 CFR 1506.6, 40 CFR 1506.10, 43 CFR 1610.2, 43 CFR 1610.5)

Melanie G. Barnes,
BLM New Mexico State Director.

[FR Doc. 2024-23428 Filed 10-10-24; 8:45 am]

BILLING CODE 4331-23-P